DEPARTMENT OF ENERGY

Federal Energy Regulatory Commission

[Project No. 7563-027]

South Fork II Associates Limited Partnership; Notice of Application for Transfer of License and Soliciting Comments, Motions To Intervene, and Protests

On October 4, 2018, South Fork II Associates Limited Partnership (licensee/transferor/transferee) filed an application for the transfer of license for the Weeks Falls Hydroelectric Project No. 7563, located on the South Fork Snoqualmie River in King County, Washington.

The licensee states that it inadvertently dissolved the partnership in the state of Washington on September 28, 2011, in connection with corporate changes to one of the licensee's partners. The licensee states that it realized its mistake on November 18, 2011 and filed a new limited partnership certificate with the Office of the Secretary of State in the state of Washington, in the same name, i.e., South Fork II Associates Limited Partnership. In response to the transfer application filed, the licensee seeks an after-the-fact approval of the transfer of license.

Applicant's Contact: For transferor/transferee: Mr. Seth T. Lucia, Bracewell LLP, 2001 M Street NW, Washington, DC 20036, Phone: 202-828-5833, Email: seth.lucia@bracewell.com, and Ms. Sheila Tralins, Vice President, Deputy General Counsel and Assistant Secretary, Covanta Energy, LLC, 445 South Street, Morristown, NJ 07960, Phone: 862-345-5311, Email: stralins@covanta.com.

FERC Contact: Patricia W. Gillis (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-7563-027.

Dated: March 18, 2019.
Kimberly D. Bose,
Secretary.

[FR Doc. 2019-05501 Filed 3-21-19; 8:45 am]

BILLING CODE 6717-01-P